OFFICE OF MANAGEMENT AND BUDGET

Request for Comments on Update to Data Center Optimization Initiative (DCOI)

AGENCY: Office of Management and Budget.

ACTION: Notice of public comment period.

SUMMARY: The Office of Management and Budget (OMB) is seeking public comment on a draft memorandum titled “Update to Data Center Optimization Initiative (DCOI).”

DATES: Comments must be received on or before December 26, 2018.

ADDRESSES: Interested parties should provide comments at the following link: https://datacenters.cio.gov/. The Office of Management and Budget is located at 725 17th Street NW, Washington, DC 20503.

FOR FURTHER INFORMATION CONTACT: Bill Hunt at ofcio@omb.eop.gov or the Office of the Federal Chief Information Officer at 202-395-3080.

SUPPLEMENTARY INFORMATION: The Office of Management and Budget (OMB) is proposing an update to M-16-19 Data Center Optimization Initiative. The Federal Information Technology Acquisition Reform Act (FITARA) passed in 2014, and required the Federal Government to consolidate and optimize agencies' data centers until October 1, 2018. The Office of Management and Budget (OMB) responded by issuing M-16-19 Data Center Optimization Initiative (DCOI), which set priorities for data center closures and efficiency improvements through the end of Fiscal Year 2018. The FITARA Enhancement Act of 2017 extended the data center requirements of FITARA until October 1, 2020. As a result, OMB is updating and extending the Data Center Optimization Initiative for another two years.

This Memorandum contains requirements for the consolidation and optimization of Federal data centers in accordance with FITARA. It establishes consolidation and optimization targets and metrics for Federal agencies, as well as requirements for reporting on their progress. This policy will be available for review and public comment at https://datacenters.cio.gov/.

Suzette Kent,
U.S. Federal Chief Information Officer.

[FR Doc. 2018-25573 Filed 11-23-18; 8:45 am]

BILLING CODE 3110-05-P